DEPARTMENT OF DEFENSE

Department of the Army; Corps of Engineers

Intent To Prepare a Draft Environmental Impact Statement for a Proposed Mill Creek Watershed Plan Including Potential Flood Damage Reduction Measures and Ecosystem Restoration, Davidson County, TN

AGENCY: Department of the Army, U.S. Army Corps of Engineers, DoD.

ACTION: Notice of intent.

SUMMARY: The Corps of Engineers, Nashville District, is preparing a Draft Environmental Impact Statement (DEIS) for a proposed Mill Creek Watershed Plan that includes Flood Damage Reduction and Ecosystem Restoration Alternatives. The Corps of Engineers is studying the possible impacts of maintaining, modifying, or adding to existing aquatic, riparian, and terrestrial habitat in combination with potential flood damage reduction measures. Forecasts of future development, floodplain management, stream habitat, endangered species protection, stream bank stabilization, storm water management, and water quality could be made to assess possible cumulative impacts for each of these resources within the watershed.

DATES: Written scoping comments on issues to be considered in the DEIS will be accepted by the Corps of Engineers until January 1, 2004.

ADDRESSES: Scoping comments should be mailed to: Ms. Joy Broach, Biologist, Project Planning Branch, Nashville District Corps of Engineers, PO Box 1070 (PM-P), Nashville, TN 37202-1070, or may be e-mailed to joy.i.broach@lrn02.usace.army.mil.

FOR FURTHER INFORMATION CONTACT: For additional information concerning the proposed action and DEIS, please contact Ms. Sue Ferguson, Project Manager, Project Planning Branch, (615) 736-7192.

SUPPLEMENTARY INFORMATION: 1. Study authority was granted by a resolution of the U.S. House Committee on Transportation and Infrastructure adopted September 14, 1995. The DEIS is necessary to provide National Environmental Policy Act (NEPA) compliance for proposed changes to the water quality, aquatic, riparian, and terrestrial habitat, and potential flood damage reduction measures within Mill Creek and its tributaries. Historical information regarding flooding, landuse, aquatic, and terrestrial ecology would be used as a baseline and has been described in previous NEPA documents including the 1986 report: Metro Region of Nashville, Tennessee, Mill Creek, Final Interim Feasibility Report and Environmental Impact Statement. The Nashville Metropolitan Water Services is the sponsor for this project.

2. The Mill Creek watershed has had a history of floods dating 1979, 1984, 1998, 2000, and 2003 that have endangered residents and have resulted in millions of dollars of flood related damage. Continued development within the watershed, has increased the flood potential and associated cost of damages. The intent of the DEIS is to provide NEPA compliance for changes in hydraulics and hydrology that could occur with implementation of any flood reduction measure. These measures could include detention ponds, swales, depressions, channel widening, levees, floodwalls, vegetative berms, low-water dams, and dry dam storage. Structures might be raised or removed from the floodway fringe. Computer models would be used to predict water drainage patterns that would guide future planning in placing structures out of the floodway fringe. The Mill Creek models and data take a composite view of hydrology, hydraulic, and water quality processes occurring in the watershed. This includes future development effects, floodplain locations, erosion, storm water management, and point and non-point sources. Models would be used to compare different types, placement, or of combinations of flood reduction measures to minimize damage to existing and future structures.

3. The Mill Creek watershed is home to the state and Federally listed Nashville Crayfish (Orconectes shoupi). This endemic crayfish evolved in Mill Creek and is rarely found outside this watershed. Accelerated development within the watershed has reduced and fragmented the aquatic and riparian habitat of not only this endangered species, but also other native aquatic and riparian communities as well. The Mill Creek models and data would evaluate the impact of changing hydraulics and hydrology on the aquatic ecosystem. The Mill Creek model would be used to find stream locations where restoration and habitat protection measures would be the most successful. Preliminary restoration alternatives under consideration include restoration of wetlands, aquatic, riparian, and terrestrial habitats, sediment management structures, and bank stabilization. Land use changes could be considered to provide a continuous stream corridor that could include a greenway. The study aims to improve the overall health of the stream and its corridor and protect ecologically sensitive habitat of the endangered Nashville crayfish, while also reducing flood damage.

4. Key proposed project features to be evaluated in the DEIS include the following:

a. Flood Damage Reduction measures including peak flow retention structures, low-water dams, channel widening, levees, flood proofing or removing structures out of the floodplain.

b. Protection, enhancement, expansion, or creation of aquatic, riparian, and connected terrestrial habitat for listed species and increased ecosystem diversity.

c. The effects of modifying the flow of Mill Creek on streamside public, private, and commercial properties; fish spawning and nesting areas; adjacent low lying farmlands; creek bank erosion; cultural, archaeological, and historic sites; and overall changes to the hydraulics and hydrology of Mill Creek.

d. Development and use of computer models that predict flooding, identify placement of habitat structures and streambank protection features, and forecast effects of future development on the existing water resources within the watershed.

5. This notice serves to solicit scoping comments from the public; federal, state and local agencies and officials; Indian Tribes; and other interested parties in order to consider and evaluate the impacts of this proposed activity. Any comments received during the comment period will be considered in the NEPA process. Comments are used to assess impacts on fish and wildlife, endangered species, historic properties, water quality, water supply and conservation, economics, aesthetics, wetlands, flood hazards, floodplain values, land use, navigation, shore erosion and accretion, recreation, energy needs, safety, food and fiber production, mineral needs, considerations of property ownership, general environmental effects, cumulative effects, and in general, the needs and welfare of the people. Public meetings may be held, however, times, dates, or locations have not been determined.

6. This notice also serves to initiate the public involvement requirements of Section 106 of the National Historic Preservation Act of 1966, as amended. Section 106, implemented by regulations at 36 CFR part 800, requires the Corps of Engineers to consider the effects of its undertakings on historic properties. If required, appropriate architectural and archaeological investigations will be conducted within those areas affected by the proposed activities and resulting findings will be coordinated with the Tennessee State Historic Preservation Officer and other offices as necessary.

7. Other Federal, state and local approvals required for the proposed work include coordination with the U.S. Fish and Wildlife Service, including a Fish and Wildlife Coordination Act Report and consultation under section 7 of the Endangered Species Act; and state section 401 Water Quality Certification.

8. Significant issues to be analyzed in depth in the DEIS include flood damage reduction measures and ecosystem modifications that impact fisheries, endangered species, recreation, economics, water quality, historic and cultural resources, stream bank erosion, future development demands, and cumulative impacts. A DEIS should be available in April 2005.

Byron G. Jorns,
Lieutenant Colonel, Corps of Engineers, District Engineer.

[FR Doc. 03-29418 Filed 11-24-03; 8:45 am]

BILLING CODE 3710-GF-M